DEPARTMENT OF ENERGY

Federal Energy Regulatory Commission

Combined Notice of Filings #1

Take notice that the Commission received the following electric rate filings:

Docket Numbers: ER20-2843-000.

Applicants: PJM Interconnection, L.L.C.

Description: § 205(d) Rate Filing: Amendment to ICSA, SA No. 5462; Queue No. Y3-092 (amend) to be effective 10/24/2019.

Filed Date: 9/9/20.

Accession Number: 20200909-5128.

Comments Due: 5 p.m. ET 9/30/20.

Docket Numbers: ER20-2844-000.

Applicants: Michigan Electric Transmission Company, LLC.

Description: § 205(d) Rate Filing: Filing of Amended Service Agreement Appendices to be effective 9/21/2020.

Filed Date: 9/9/20.

Accession Number: 20200909-5131.

Comments Due: 5 p.m. ET 9/30/20.

Docket Numbers: ER20-2845-000.

Applicants: Albemarle Beach Solar, LLC.

Description: Baseline eTariff Filing: Application For Market Based Rate Authority to be effective 11/9/2020.

Filed Date: 9/9/20.

Accession Number: 20200909-5133.

Comments Due: 5 p.m. ET 9/30/20.

Docket Numbers: ER20-2846-000.

Applicants: Mechanicsville Lessee, LLC.

Description: Baseline eTariff Filing: Application For Market Based Rate Authority to be effective 9/10/2020.

Filed Date: 9/9/20.

Accession Number: 20200909-5136.

Comments Due: 5 p.m. ET 9/30/20.

Docket Numbers: ER20-2847-000.

Applicants: AB Lessee, LLC.

Description: Baseline eTariff Filing: Application For Market Based Rate Authority to be effective 11/9/2020.

Filed Date: 9/9/20.

Accession Number: 20200909-5139.

Comments Due: 5 p.m. ET 9/30/20.

Docket Numbers: ER20-2848-000.

Applicants: Wheatridge Wind II, LLC.

Description: Baseline eTariff Filing: Wheatridge Wind II, Wheatridge Solar, and PGE Shared Facilities Agreement to be effective 10/15/2020.

Filed Date: 9/9/20.

Accession Number: 20200909-5141.

Comments Due: 5 p.m. ET 9/30/20.

Docket Numbers: ER20-2849-000.

Applicants: Louisville Gas & Electric Company, Kentucky Utilities Company.

Description: Notice of cancellation of Netting Agreement (Rate Schedule No. 27) of Louisville Gas and Electric Company, et al.

Filed Date: 9/9/20.

Accession Number: 20200909-5156.

Comments Due: 5 p.m. ET 9/30/20.

Docket Numbers: ER20-2850-000.

Applicants: California Independent System Operator Corporation.

Description: § 205(d) Rate Filing: 2020-09-10 Transferred Frequency Response Agmt—City of Seattle to be effective 12/1/2020.

Filed Date: 9/10/20.

Accession Number: 20200910-5016.

Comments Due: 5 p.m. ET 10/1/20.

Docket Numbers: ER20-2851-000.

Applicants: Midcontinent Independent System Operator, Inc.

Description: § 205(d) Rate Filing: 2020-09-10_SA 2899 Termination of ITC Midwest-Northern States Power FCA (J278) to be effective 9/11/2020.

Filed Date: 9/10/20.

Accession Number: 20200910-5044.

Comments Due: 5 p.m. ET 10/1/20.

Docket Numbers: ER20-2852-000.

Applicants: Midcontinent Independent System Operator, Inc., Otter Tail Power Company.

Description: § 205(d) Rate Filing: 2020-09-10_SA 3076 OTP-East River 1st Rev T-T (Load) to be effective 8/25/2020.

Filed Date: 9/10/20.

Accession Number: 20200910-5101.

Comments Due: 5 p.m. ET 10/1/20.

Docket Numbers: ER20-2853-000.

Applicants: California Independent System Operator Corporation.

Description: § 205(d) Rate Filing: 2020-09-10 Transferred Frequency Response Agmt—Grant PUD to be effective 12/1/2020.

Filed Date: 9/10/20.

Accession Number: 20200910-5106.

Comments Due: 5 p.m. ET 10/1/20.

Docket Numbers: ER20-2854-000.

Applicants: PJM Interconnection, L.L.C.

Description: § 205(d) Rate Filing: Original WMPA 5751; Queue No. AF2-087 to be effective 8/11/2020.

Filed Date: 9/10/20.

Accession Number: 20200910-5117.

Comments Due: 5 p.m. ET 10/1/20.

Docket Numbers: ER20-2855-000.

Applicants: Alabama Power Company.

Description: § 205(d) Rate Filing: Silver Arrow LGIA Filing to be effective 8/26/2020.

Filed Date: 9/10/20.

Accession Number: 20200910-5125.

Comments Due: 5 p.m. ET 10/1/20.

Docket Numbers: ER20-2856-000.

Applicants: High Desert Power Project, LLC.

Description: Baseline eTariff Filing: SFA new filing to be effective 11/10/2020.

Filed Date: 9/10/20.

Accession Number: 20200910-5138.

Comments Due: 5 p.m. ET 10/1/20.

Docket Numbers: ER20-2857-000.

Applicants: PJM Interconnection, L.L.C.

Description: § 205(d) Rate Filing: Second Revised ISA, Service Agreement No. 3041; Queue No. AE2-184 to be effective 8/11/2020.

Filed Date: 9/10/20.

Accession Number: 20200910-5144.

Comments Due: 5 p.m. ET 10/1/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2020.
Nathaniel J. Davis, Sr.,
Deputy Secretary.

[FR Doc. 2020-20365 Filed 9-15-20; 8:45 am]

BILLING CODE 6717-01-P